DEPARTMENT OF COMMERCE

International Trade Administration

[A-331-805]

Frozen Warmwater Shrimp From Ecuador: Final Negative Determination of Sales at Less Than Fair Value

AGENCY: Enforcement and Compliance, International Trade Administration, Department of Commerce.

SUMMARY: The U.S. Department of Commerce (Commerce) determines that imports of frozen warmwater shrimp (shrimp) from Ecuador are not being, or not likely to be, sold in the United States at less than fair value (LTFV) for the period of investigation (POI) October 1, 2022, through September 30, 2023.

DATES: Applicable October 28, 2024.

FOR FURTHER INFORMATION CONTACT: Kyle Clahane or Matthew Palmer, AD/CVD Operations, Office III, Enforcement and Compliance, International Trade Administration, U.S. Department of Commerce, 1401 Constitution Avenue NW, Washington, DC 20230; telephone: (202) 482-5449 or (202) 482-1678, respectively.

SUPPLEMENTARY INFORMATION:

Background

On May 30, 2024, Commerce published in the Federal Register its preliminary affirmative determination in the LTFV investigation of shrimp from Ecuador.¹ We invited interested parties to comment on the Preliminary Determination.² On July 22, 2024, Commerce tolled certain deadlines in this administrative proceeding by seven days.³ The deadline for the final determination of this investigation is now October 21, 2024.

¹ See Frozen Warmwater Shrimp from Ecuador: Preliminary Affirmative Determination of Sales at Less Than Fair Value, Postponement of Final Determination, and Extension of Provisional Measures, 89 FR 46857 (May 30, 2024) (Preliminary Determination), and accompanying Preliminary Decision Memorandum.

² Id. 89 FR at 46859.

³ See Memorandum, “Tolling of Deadlines for Antidumping and Countervailing Duty Proceedings,” dated July 22, 2024.

A summary of the events that occurred since Commerce published the Preliminary Determination, as well as a full discussion of the issues raised by parties for this final determination, may be found in the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Determination of Sales at Less Than Fair Value in the Investigation of Certain Frozen Warmwater Shrimp from Ecuador,” dated concurrently with, and hereby adopted by, this notice (Issues and Decision Memorandum).

Scope of the Investigation

The product covered by this investigation is shrimp from Ecuador. For a complete description of the scope of this investigation, see Appendix I.

Scope Comments

We received no comments from interested parties on the scope of the investigation as it appeared in the Preliminary Determination. Therefore, we made no changes to the scope of the investigation.

Verification

Commerce was unable to conduct on-site verifications of the information relied on in making its final determination in this investigation. However, in August 2024, we took additional steps in lieu of on-site verifications to verify the information relied upon in making this final determination, in accordance with section 782(i) of the Tariff Act of 1930, as amended (the Act), by conducting virtual verifications of Industrial Pesquera Santa Priscila S.A. (Santa Priscila) and Sociedad Nacional de Galápagos C.A. (SONGA).⁵

⁵ See Memoranda, “Verification of the Cost Response of Sociedad Nacional de Galapagos C.A. in the Less-Than-Fair-Value Investigation of Frozen Warmwater Shrimp from Ecuador,” dated September 20, 2024 (SONGA's Cost Verification Report); “Sales Verification of Sociedad Nacional de Galápagos C.A,” dated August 27, 2024 (SONGA's Sales Verification Report) (collectively, SONGA's Verification Reports); “Verification of the Cost Response of Industrial Pesquera Santa Priscila in the Antidumping Duty Investigation of Frozen warm Water Shrimp from Ecuador,” dated September 18, 2024 (Santa Priscila's Cost Verification Report); and “Sales Verification of Industrial Santa Priscila,” dated September 19, 2024 (Santa Priscila's Sales Verification Report) (collectively, Santa Priscila's Verification Reports).

Analysis of Comments Received

All issues raised in the case and rebuttal briefs submitted by interested parties in this investigation are addressed in the Issues and Decision Memorandum. A list of the issues addressed in the Issues and Decision Memorandum is attached to this notice as Appendix II.

Changes Since the Preliminary Determination

We made certain changes regarding Santa Priscila and SONGA's reported sales and cost data since the Preliminary Determination. For a discussion of these changes, see the Issues and Decision Memorandum.

Final Determination

Commerce determines that the following estimated weighted-average dumping margins exist:

Exporter/Producer | Weighted-average dumping margin (percent)
Sociedad Nacional de Galápagos C.A./Marina del Rey | 0.00.
Industrial Pesquera Santa Priscila S.A./Tropical Packing Ecuador Tropack S.A | 0.48 (de minimis).

Consistent with section 735(c) of the Act, Commerce has not calculated an estimated weighted-average dumping margin for all other producers and exporters because it has not made an affirmative final determination of sales at LTFV.

Disclosure

Commerce intends to disclose the calculations performed in connection with this final determination to interested parties within five days of any public announcement or, if there is no public announcement, within five days of the date of publication of this notice in the Federal Register, in accordance with 19 CFR 351.224(b).

Suspension of Liquidation

Because Commerce has made a negative final determination of sales at LTFV with regard to subject merchandise, Commerce will not direct U.S. Customs and Border Protection to suspend liquidation or to require a cash deposit of estimated antidumping duties for entries of shrimp from Ecuador.

U.S. International Trade Commission Notification

In accordance with section 735(d) of the Act, we will notify the U.S. International Trade Commission of this final negative determination of sales at LTFV. As our final determination is negative, this proceeding is terminated in accordance with section 735(c)(2) of the Act.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act and 19 CFR 351.210(c).

Dated: October 21, 2024.
Ryan Majerus,
Deputy Assistant Secretary for Policy and Negotiations, performing the non-exclusive functions and duties of the Assistant Secretary for Enforcement and Compliance.

Appendix I

Scope of the Investigation

The scope of this investigation includes certain frozen warmwater shrimp and prawns whether wild-caught (ocean harvested) or farm-raised (produced by aquaculture), head-on or head-off, shell-on or peeled, tail-on or tail-off, deveined or not deveined, cooked or raw, or otherwise processed in frozen form. “Tails” in this context means the tail fan, which includes the telson and the uropods.

The frozen warmwater shrimp and prawn products included in the scope, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope. In addition, food preparations, which are not “prepared meals,” that contain more than 20 percent by weight of shrimp or prawn are also included in the scope.

Excluded from the scope are: (1) breaded shrimp and prawns (HTSUS subheading 1605.21.1020); (2) shrimp and prawns generally classified in the Pandalidae family and commonly referred to as coldwater shrimp, in any state of processing; (3) fresh shrimp and prawns whether shell-on or peeled (HTSUS subheadings 0306.36.0020 and 0306.36.0040); (4) shrimp and prawns in prepared meals (HTSUS subheadings 1605.21.0500 and 1605.29.0500); (5) dried shrimp and prawns; (6) canned warmwater shrimp and prawns (HTSUS subheading 1605.29.1040); and (7) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by the scope are currently classified under the following HTSUS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.1030, and 1605.29.1010. These HTSUS subheadings are provided for convenience and for customs purposes only and are not dispositive, but rather the written description of the scope is dispositive.

Appendix II

List of Topics Discussed in the Issues and Decision Memorandum

I. Summary

II. Background

III. Changes Since the Preliminary Determination

IV. Discussion of the Issues

Comment 1: Whether Commerce Should Revise SONGA's Cost Adjustment for Its Purchases of Raw Shrimp From Affiliated Suppliers

Comment 2: Whether Commerce Should Recalculate SONGA's Reported Financial Expenses

Comment 3: Whether Revisions are Warranted to SONGA's Reported Indirect Selling Expenses

Comment 4: Whether Commerce Should Continue To Offset G&A Expenses by the Amount of Scrap Sales Revenue

Comment 5: Whether Commerce Should Revise SONGA's Per-Unit Costs for the Additional Wrapping and Finger-Laying Processes

Comment 6: Whether Commerce Should Compare U.S. Sales of Broken Shrimp to Constructed Value

Comment 7: Treatment of Clerical Errors in SONGA's Preliminary Margin Calculation

Comment 8: Inclusion of SONGA's Revised Sales and Cost Databases

Comment 9: Treatment of SONGA's Reported U.S. Customs Duty and Brokerage and Handling Expenses

Comment 10: Treatment of Export Subsidies for Santa Priscila and SONGA

Comment 11: Whether Commerce Should Apply Adverse Facts Available (AFA) to Santa Priscila for its Misrepresentation of its Payment Dates and its Failure To Report All Expenses

Comment 12: Whether Commerce Should Apply AFA to Santa Priscila's Credit Expenses, Other Discounts and Bank Charges.

Comment 13: Whether Commerce Should Apply the Market Price Adjustment to all Santa Priscila Raw Shrimp Purchases

Comment 14: Whether Commerce Should Reject Santa Priscila's Claimed Scrap Offset

Comment 15: Treatment of Santa Priscila's Return Expenses

Comment 16: Whether Commerce Should Incorporate Santa Priscila's Cost Verification Minor Corrections

Comment 17: Treatment of Clerical Errors in Santa Priscila's Preliminary Margin Calculation

V. Recommendation

[FR Doc. 2024-24958 Filed 10-25-24; 8:45 am]

BILLING CODE 3510-DS-P